DEPARTMENT OF COMMERCE

National Oceanic and Atmospheric Administration

50 CFR Part 622

[I.D. 012604C]

Fisheries of the Caribbean, Gulf of Mexico, and South Atlantic; Reef Fish; Fishery Management Plan for the Reef Fish Resources of the Gulf of Mexico; Vermilion Snapper Rebuilding Plan

AGENCY: National Marine Fisheries Service (NMFS), National Oceanic and Atmospheric Administration (NOAA), Commerce.

ACTION: Notice of intent to prepare a draft supplemental environmental impact statement (DSEIS); request for comments.

SUMMARY: The Gulf of Mexico Fishery Management Council (Council) intends to prepare a DSEIS that describes and analyzes management alternatives associated with establishing a vermilion snapper rebuilding plan based on biomass-based stock rebuilding targets and thresholds. The rebuilding plan will be implemented through an amendment to the Fishery Management Plan for the Reef Fish Resources of the Gulf of Mexico (FMP). The purpose of this notice is to solicit public comments on the scope of issues to be addressed in the DSEIS, which will be submitted to NMFS for filing with the Environmental Protection Agency (EPA) for publication of a Notice of Availability for public comment.

DATES: Written comments must be received by the Council by March 15, 2004.

ADDRESSES: Written comments on the scope of the DSEIS and requests for additional information on the Draft Vermilion Snapper Rebuilding Amendment should be sent to the Gulf of Mexico Fishery Management Council, 3018 North U.S. Highway 301, Suite 1000, Tampa, FL 33619; telephone: (813) 228-2815; fax: (813) 225-7015. Comments may also be sent by e-mail to Stu.Kennedy@gulfcouncil.org.

FOR FURTHER INFORMATION CONTACT: Stu Kennedy; phone: (813) 228-2815 ext. 231; fax: (813) 225-7015; e-mail: Stu.Kennedy@gulfcouncil.org.

SUPPLEMENTARY INFORMATION: The Council is preparing to amend the FMP to establish a vermilion snapper rebuilding plan that is based on biomass-based stock rebuilding targets and thresholds. The Council will develop a DSEIS that describes and analyzes management alternatives considered in the Draft Vermilion snapper Rebuilding Amendment.

Scoping meetings were held in Texas, Louisiana, Mississippi, Alabama and Florida in late August 2003, to take public comment on the scope of issues to be addressed for ending overfishing. At the time, the level of effects did not seem sufficient to warrant a SEIS. On October 30, 2003, NMFS declared Gulf of Mexico vermilion snapper overfished. That determination increases the likelihood of a significant impact as a result of the need for a rebuilding plan. This type of action normally requires an EIS or SEIS and, as a result, the Council is forgoing the initial preparation of an environmental assessment and is developing an SEIS. The scoping meetings held in August, 2003, covered the range of options the Council chose prior to the declaration on the overfished condition and those have not changed since the declaration. Therefore, the previous meetings adequately scoped the issues.

The DSEIS will evaluate biomass-based stock rebuilding targets and thresholds, will consider various rebuilding schedules, consistent with the legal mandate provided by § 304(e)(4) of the Magnuson-Stevens Fishery Conservation and Management Act (Magnuson-Stevens Act) to rebuild overfished stocks in ten years or less except in cases where the biology of the overfished stock, other environmental conditions or international agreements dictate otherwise, and will consider management alternatives to limit harvest to levels consistent with the selected rebuilding plan. The rebuilding period for vermilion snapper will be ten years or less based on Magnuson-Stevens Act guidelines. The DSEIS will consider various alternatives to achieve the rebuilding goal in either seven or ten years based on constant catch strategies, constant fishing mortality rate strategies or stepped strategies that holds harvest constant for three or four year periods consistent with the average of the harvests under a constant fishing mortality strategy. The status of the stock would be reviewed every 3 to 5 years to evaluate the need for additional management measures.

Management alternatives considered by the Council could include, but would not be limited to, seasonal closures, quotas, minimum size limits, bag limits and trip limits.

Written comments on the range of alternatives and scope of issues to be addressed in the DSEIS may be sent to the Council (see ADDRESSES).

Once the Council completes the DSEIS associated with the Draft Vermilion snapper Rebuilding Amendment, it will submit the document to NMFS for filing with the EPA. The EPA will publish a Notice of Availability of the DSEIS for public comment in the Federal Register. The DSEIS will have a 45-day comment period. This procedure is pursuant to regulations issued by the Council on Environmental Quality (CEQ) for implementing the procedural provisions of the National Environmental Policy Act (NEPA; 40 CFR parts 1500-1508) and to NOAA Administrative Order 216-6 regarding NOAA's compliance with NEPA and the CEQ regulations.

The Council will consider public comments received on the DSEIS in developing the final supplemental environmental impact statement (FSEIS) and before adopting final management measures for the Vermilion Snapper Rebuilding Amendment. The Council will submit both the final Amendment, including the supporting FSEIS, to NMFS for Secretarial review, approval, and implementation under the Magnuson-Stevens Act.

NMFS will announce, through a notice published in the Federal Register, the availability of the final Vermilion Snapper Rebuilding Amendment for public review during the Secretarial review period. During Secretarial review, NMFS will also file the FSEIS with the EPA for a final 30-day public comment period. This comment period will be concurrent with the Secretarial review period and will end prior to final agency action to approve, disapprove, or partially approve the final Vermilion Snapper Rebuilding Amendment.

NMFS will announce, through a notice published in the Federal Register, all public comment periods on the final Vermilion Snapper Rebuilding Amendment, its proposed implementing regulations, and its associated FSEIS. NMFS will consider all public comments received during the Secretarial review period, whether they are on the final Amendment, the proposed regulations, or the FSEIS, prior to final agency action.

Dated: February 9, 2004.
Bruce C. Morehead,
Acting Director, Office of Sustainable Fisheries, National Marine Fisheries Service.

[FR Doc. 04-3281 Filed 2-12-04; 8:45 am]

BILLING CODE 3510-22-S